DEPARTMENT OF TRANSPORTATION

National Highway Traffic Safety Administration

[Docket No. NHTSA 2000-8247; Notice 1]

Cooper Tire & Rubber Company, Receipt of Application for Decision of Inconsequential Noncompliance

Cooper Tire & Rubber Company (Cooper) has determined that approximately 8,824 motorcycle tires produced at the Melksham, England, tire manufacturing facility of Cooper-Avon Tyres Limited, do not meet the labeling requirements mandated by Federal Motor Vehicle Safety Standard (FMVSS) No. 119, “New Pneumatic Tires for Vehicles Other than Passenger Cars”.

Pursuant to 49 U.S.C. 30118(d) and 30120(h), Cooper has petitioned for a determination that this noncompliance is inconsequential to motor vehicle safety and has filed an appropriate report pursuant to 49 CFR Part 573, “Defect and Noncompliance Reports.”

This notice of receipt of an application is published under 49 U.S.C. 30118 and 30120 and does not represent any agency decision or other exercise of judgment concerning the merits of the application.

The noncompliance relates to the mislabeling of approximately 8,824 tires. The tires, produced during the first twenty weeks of 2000, are the MT90-16 71H, Load Range B, motorcycle tires sold to one original equipment manufacturer/customer under the brand names AVON MT90-16 Roadrunner, AVON MT90-16 Gangster, and Avon MT90-16 Indian. These tires were produced with the incorrect maximum load rating on the serial side of the tire during the first through the twentieth production weeks of 2000. Approximately 8,124 of the tires involved have been accounted for in either Cooper's inventory or the inventory of original equipment manufacturer/customer, leaving an estimated 700 tires not accounted for in either inventory.

According to Cooper, this mislabeling does not present a safety-related defect. The tires involved are designed to carry a heavier load (770 lbs.) than the incorrect labeling specified (760 lbs.). Consequently, any misapplication of the tire would be for the user to carry a lighter load than the load for which the tires are designed. The tires produced from this mold during the aforementioned production periods comply with all other requirements of 49 CFR 571.119.

Interested persons are invited to submit written data, views, and arguments on the application described above. Comments should refer to the docket number and be submitted to: U.S. Department of Transportation, Docket Management, Room PL-401, 400 Seventh Street, SW., Washington, DC 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: February 1, 2001.

(49 U.S.C. 301118, 301120; delegations of authority at 49 CFR 1.50 and 501.8)

Issued on: December 26, 2000.
Stephen R. Kratzke,
Associate Administrator for Safety Performance Standards.

[FR Doc. 00-33410 Filed 12-29-00; 8:45 am]

BILLING CODE 4910-59-P